DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Thursday, November 15, 2007.

FOR FURTHER INFORMATION CONTACT: Ms. Jacqueline Tilghman, National Public Liaison, CL:NPL, 7559, 1111 Constitution Avenue, NW., Washington, DC 20224. Telephone: 202-927-9833 (not a toll-free number). E-mail address: *public_liaison@irs.gov.

SUPPLEMENTARY INFORMATION: Notice is hereby given pursuant to section 10(a)(2) of the Federal Advisory Committee Act, 5 U.S.C. App. (1988), a public meeting of the IRSAC will be held on Thursday, November 15, 2007, from 9 a.m. to 1 p.m. at IRS Headquarters, 1111 Constitution Avenue, NW., Room 3313, Washington, DC 20224. Issues to be discussed include: Earned Income Tax Credit (EITC) Communication Strategy, Earned Income Tax Credit (EITC) Return Preparer Strategy, Allowable Living Expense Standards, Information on Independent Contractor or Employee Determinations, Compliance Assurance Program (CAP) Strategy, E-File Issues, and the Industry Issue Resolution Program. Reports from the four IRSAC sub-groups, Large and Mid-size Business, Small Business/Self-Employed, Wage & Investment, and Tax Gap Analysis will also be presented and discussed. Last minute agenda changes may preclude advance notice. The meeting room accommodates approximately 80 people, IRSAC members and Internal Revenue Service officials inclusive. Due to limited seating, please call Jacqueline Tilghman to confirm your attendance. Ms. Tilghman can be reached at 202-927-9833. Attendees are encouraged to arrive at least 30 minutes before the meeting begins. Should you wish the IRSAC to consider a written statement, please call 202-927-9833, or write to: Internal Revenue Service, Office of National Public Liaison, CL:NPL:7559, 1111 Constitution Avenue, NW., Washington, DC 20224 or e-mail: *public_liaison@irs.gov.

Dated: October 22, 2007.
J. Chris Neighbor,
Designated Federal Official, Branch Chief, Liaison/Tax Forum Branch.

[FR Doc. E7-21358 Filed 10-30-07; 8:45 am]

BILLING CODE 4830-01-P